DEPARTMENT OF HEALTH AND HUMAN SERVICES

National Institutes of Health

Proposed Collection; Comment Request; Food Reporting Comparison Study (FORCS) and Food and Eating Assessment Study (FEAST) (NCI)

SUMMARY: In compliance with the requirement of Section 3506(c)(2)(A) of the Paperwork Reduction Act of 1995 for opportunity for public comment on proposed data collection projects, the National Cancer Institute (NCI), National Institutes of Health (NIH) will publish periodic summaries of proposed projects to be submitted to the Office of Management and Budget (OMB) for review and approval.

Proposed Collection: Title: Food Reporting Comparison Study (FORCS) and Food and Eating Assessment Study (FEAST) (NCI). Type of Information Collection Request: Extension. Need and Use of Information Collection: The title of this collection was previously, “24-hour Dietary Recall Method Comparison and the National Cancer Institute (NCI) Observational Feeding Studies.” The objective of the two studies is to compare the performance of the newly developed computerized Automated Self-Administered 24-Hour Recall (ASA24) approach to collecting 24 hour recall (24HR) data with the current standard, the interviewer-administered Automated Multiple Pass Method (AMPM). The ultimate goal is to determine to what extent the new automated instrument can be used instead of the more expensive interviewer-administered instrument in the collection of dietary intake data. Frequency of Response: Twice. Affected Public: Individuals. Type of Respondents: For the FORCS study, approximately 1,200 adult members from three health maintenance organization plans (in Minnesota, California, and Michigan) between ages 20 and 70 years. For the FEAST study, approximately 90 adult residents from the Washington, DC metropolitan area between ages 20 and 70 years. The annual reporting burden is estimated at 866 hours (see table below). This amounts to an estimated 2,598 burden hours over the 3-year data collection period with a total cost to the respondents of $54,293. There are no Capital costs, Operating costs, and/or Maintenance Costs to report.

Participants and study | Questionnaire | Number of respondents | Frequency of response | Average time per response minutes/hour | Annual hour burden
General Public for FORCS | Refusal Reasons and Demographics (Attach 4A, Screen 8) | 1,770 | 1 | 5/60 (0.083) | 148
| Contact Information (Attach 4A, Screen 5) | 400 | 1 | 5/60 (0.083) | 33
| Screener (Attach 5) | 400 | 1.00 | 5/60 (0.083) | 33
| AMPM (Attach 1) | 400 | 1.00 | 30/60 (0.50) | 200
| ASA24 (Attach 2) | 400 | 1.00 | 30/60 (0.50) | 200
| Demographics and Health Questionnaire (Attach 6) | 360 | 1.00 | 10/60 (0.167) | 60
| Demographics, Health and Preference Questionnaire (Attach 7) | 360 | 1.00 | 15/60 (0.25) | 90
General Public for FEAST | Screener (Attach 8) | 33 | 1.00 | 5/60 (0.083) | 6
| Reminder Telephone Call (Attach 10) | 33 | 1.00 | 5/60 (0.083) | 6
| Eating 3 meals | 33 | 1.00 | 135/60 (2.25) | 151
| Either AMPM or ASA24 (Attach 1 or 2) | 33 | 1.00 | 30/60 (0.50) | 34
| Demographics and Health Questionnaire (Attach 12) | 33 | 1.00 | 10/60 (0.167) | 11
|  | 3,485 |  |  | 866

Request for Comments: Written comments and/or suggestions from the public and affected agencies should address one or more of the following points: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans, contact Frances E. Thompson, PhD, Project Officer, National Cancer Institute, NIH, EPN 4095A, 6130 Executive Boulevard MSC 7335, Bethesda, Maryland 20892-7335, or call non-toll-free number 301-594-4410, or FAX your request to 301-435-3710, or e-mail your request, including your address, to thompsof@mail.nih.gov.

Comments Due Date: Comments regarding this information collection are best assured of having their full effect if received within 60-days of this publication.

Dated: April 8, 2011.
Vivian Horovitch-Kelley,
NCI Project Clearance Liaison, National Institutes of Health.

[FR Doc. 2011-9204 Filed 4-14-11; 8:45 am]

BILLING CODE 4140-01-P